FEDERAL COMMUNICATIONS COMMISSION

47 CFR Part 73

[DA 03-1474; MM Docket No. 01-169; RM-10145]

Radio Broadcasting Services; Danville & Nonesuch, KY

AGENCY: Federal Communications Commission.

ACTION: Proposed rule; denial.

SUMMARY: Action in this document denies a petition for rule making filed by Clear Channel Broadcasting Licenses, Inc., requesting the reallotment of Channel 296A from Danville, Kentucky to Nonesuch, Kentucky, and modification of the license for Station WHIR-FM to specify operation on Channel 296A at Nonesuch. See 66 FR 41489, August 8, 2001. Based on the information provided by Clear Channel Broadcasting Licenses, Inc., we believe it has failed to establish that Nonesuch qualifies as a community for allotment purposes and therefore it would not serve the public interest to reallot Channel 296A from Danville to Nonesuch, Kentucky. With this action, this proceeding is terminated.

FOR FURTHER INFORMATION CONTACT: Kathleen Scheuerle, Media Bureau, (202) 418-2180.

SUPPLEMENTARY INFORMATION: This is a synopsis of the Commission's Report and Order, MM Docket No. 01-169, adopted April 30, 2003, and released May 5, 2003. The full text of this Commission decision is available for inspection and copying during normal business hours in the FCC's Reference Information Center at Portals II, 44512th Street, SW., Room CY-A257, Washington, DC 20554. The document may also be purchased from the Commission's duplicating contractor, Qualex International, Portals II, 445 12th Street, SW., Room CY-B402, Washington, DC 20554, telephone: 202 863-2893, facsimile: 202 863-2898, or via e-mail qualexint@aol.com.

Federal Communications Commission.
John A. Karousos,
Assistant Chief, Audio Division, Media Bureau.

[FR Doc. 03-12794 Filed 5-21-03; 8:45 am]

BILLING CODE 6712-01-P